ENVIRONMENTAL PROTECTION AGENCY

40 CFR Part 261

[FRL-7454-5]

RIN 2003-AA00

Regulatory Innovations: Pilot-Specific Rule for Electronic Materials in EPA Region III Mid-Atlantic States; Hazardous Waste Management System; Modification of the Hazardous Waste Program; Cathode Ray Tubes (CRT); Withdrawal of Direct Final Rule

AGENCY: Environmental Protection Agency (EPA).

ACTION: Withdrawal of direct final rule.

SUMMARY: Because EPA received adverse comment, we are withdrawing the direct final rule for Regulatory Innovations: Pilot-Specific Rule for Electronic Materials in EPA Region III Mid-Atlantic States; Hazardous Waste Management System; Modification of the Hazardous Waste Program; Cathode Ray Tubes (CRT). We published the direct final rule on December 26, 2002 date (67 FR 78718-78731), to exclude used CRTs and glass removed from CRTs from the definition of “solid waste” in the EPA Region III Mid-Atlantic States (which include the States of Delaware, Maryland, and West Virginia and the Commonwealths of Pennsylvania and Virginia, and the District of Columbia). We stated in the direct final rule that if we received adverse comment by January 27, 2003, we would publish a timely withdrawal in the Federal Register. We subsequently received adverse comment on the direct final rule. We will address those comments in a subsequent final action on the parallel proposal also published on December 26, 2002, 67 FR 78761-78763. As stated in the parallel proposal, we will not institute a second comment period on this action.

DATES: As of February 24, 2003, EPA withdraws the direct final rule published at 67 FR 78718-78731, on December 26, 2002.

FOR FURTHER INFORMATION CONTACT: Marie Holman (3EI00), U.S. EPA Region III, Office of Environmental Innovation, 1650 Arch Street, Philadelphia, PA 19103-2029 or holman.marie@epa.gov.

SUPPLEMENTARY INFORMATION: EPA published a direct final rule on December 26, 2002, to exclude (in specified circumstances) used CRTs and glass removed from CRTs from the definition of “solid waste” in the EPA Region III Mid-Atlantic States (which include the States of Delaware, Maryland, and West Virginia and the Commonwealths of Pennsylvania and Virginia, and the District of Columbia). EPA published a companion proposed rule (67 FR 78761-78763) on the same date as the direct final rule.

The companion proposed rule invited comment on the substance of the direct final rule and stated that if adverse comment was received by January 27, 2003, the direct final rule would not become effective and a document would be published in the Federal Register to withdraw the direct final rule before the February 24, 2003, effective date. The EPA subsequently received adverse comments on the final rule. EPA plans to address those comments in a subsequent action. Today's action withdraws the direct final rule; the Regulatory Innovations: Pilot-Specific Rule for Electronic Materials in the EPA Region III Mid-Atlantic States; Hazardous Waste Management System; Modification of the Hazardous Waste Program; Cathode Ray Tubes (conditional exclusion for CRTs is not approved under 40 CFR part 261).

List of Subjects in 40 CFR Part 261

Environmental protection, Hazardous waste, Recycling, Reporting and recordkeeping requirements, Waste treatment and disposal.

Dated: February 13, 2003.
Donald S. Welsh, Regional Administrator, Region III.

[FR Doc. 03-4371 Filed 2-21-03; 8:45 am]

BILLING CODE 6560-50-P